DEPARTMENT OF ENERGY

Federal Energy Regulatory Commission

[Docket No. RP03-154-000]

Questar Pipeline Company; Notice of Tariff Filing

December 4, 2002.

Take notice that on November 29, 2002, Questar Pipeline Company (Questar) tendered for filing as part of its FERC Gas Tariff, First Revised Volume No. 1, the following tariff sheets to be effective January 1, 2003:

Seventh Revised Sheet No. 67

Seventh Revised Sheet No. 68

Third Revised Sheet No. 99J

First Revised Sheet No. 99K

Questar states that the filing is being made in compliance with the Commission's Order on Remand dated October 31, 2002, in Docket No. RM98-10-011, (October 31 Order).

Questar states that, by the Commission's October 31 Order, pipeline companies were directed to modify their FERC Gas Tariffs to (1) remove the five-year term matching cap when shippers exercise their right of first refusal (ROFR) and (2) allow backhaul and forwardhaul segmentation, up to a shipper's contract demand level, to the same point. This filing was tendered in compliance with the Commission's October 31 order.

Questar states that a copy of this filing has been served upon its customers, the Public Service Commission of Utah and the Public Service Commission of Wyoming.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Magalie R. Salas,
Secretary.

[FR Doc. 02-31270 Filed 12-11-02; 8:45 am]

BILLING CODE 6717-01-P